DEPARTMENT OF DEFENSE

Office of the Secretary

Meeting of the President's Commission on Care for America's Returning Wounded Warriors

AGENCY: Department of Defense.

ACTION: Notice of meeting.

SUMMARY: Pursuant to section 10(a), Public Law 92-463, as amended, notice is hereby given of a forthcoming Meeting of the President's Commission on Care for America's Returning Wounded Warriors on 29 June 2007. The purpose of the Commission meeting is to conduct briefings for the Commissioners. The meeting is open to the public, subject to the availability of space.

Interested persons may submit a written statement for consideration by the Committee and make an oral presentation of such. Persons desiring to make an oral presentation or submit a written statement to the Commission must notify the point of contact listed below no later than 5 p.m. 26 June 2007. Oral presentations by members of the public will be permitted only on 29 June from 2-2:30 p.m. before the full Committee. Presentations will be limited to 5 minutes. The Executive Director and the Designated Federal Official will select individuals for oral presentations and notify them in advance of the opportunity to make a 5 minute presentation to the Commission. Number of oral presentations to be made will depend on the number of requests received from members of the public. Each person desiring to make an oral presentation must provide the point of contact listed below with one (1) copy of the presentation by 26 June 2007, 5 p.m. and one copy of any material that is intended for distribution at the meeting. The Staff Points of Contact are Col. Denise Dailey, Major Teresa Barnes or Leslie Smith, toll free (877) 588-2035 or fax statements (703) 588-2046.

DATES: Friday, 29 June 2007.

Location: Main Conference Center, National Transportation Safety Board, 429 L'Enfant Plaza, SW., Washington, DC 20594.

For Further Information on Submitting Statements Contact: Col. Denise Dailey, Major Teresa Barnes or Leslie Smith, toll free (877) 588-2035 or fax statements (703) 588-2046.

SUPPLEMENTARY INFORMATION: Meeting agenda.

29 June 2007

9 a.m. Administrative Time Not Open to the Public.

10 a.m. Public Session.

Presentations:

Legislative Initiatives.

Summary of Public Input.

12-2 p.m. Lunch/Administrative Time.

2-2:30 p.m. Public Forum Presentations.

2:30-4:30 p.m. Discussion Panels on Commission Findings.

5 p.m. Wrap Up.

Note: Exact order may vary.
Dated: June 7, 2007.
C.R. Choate,
Alternate OSD Federal Register Liaison Officer, Department of Defense.

[FR Doc. 07-2916 Filed 6-12-07; 8:45 am]

BILLING CODE 5001-06-M